OFFICE OF PERSONNEL MANAGEMENT

Excepted Service

AGENCY: U.S. Office of Personnel Management (OPM).

ACTION: Notice.

SUMMARY: This notice identifies Schedule A, B, and C appointing authorities applicable to a single agency that were established or revoked from July 1, 2016 to July 31, 2016.

FOR FURTHER INFORMATION CONTACT: Senior Executive Resources Services, Senior Executive Service and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No schedule A authorities to report during July 2016.

Schedule B

No schedule B authorities to report during July 2016.

Schedule C

The following Schedule C appointing authorities were approved during July 2016.

Agency name | Organization name | Position title | Authorization No. | Effective date
Department of Agriculture | Office of the Secretary | Advisor for Special Projects | DA160129 | 07/08/2016
|  | Deputy White House Liaison | DA160156 | 07/21/2016
| Office of the Assistant Secretary for Administration | Chief of Staff | DA160151 | 07/08/2016
| Office of the Chief Financial Officer | Chief of Staff | DA160153 | 07/12/2016
| Office of the Assistant Secretary for Congressional Relations | Legislative Director | DA160128 | 07/18/2016
| Office of the Under Secretary for Research, Education, and Economics | Chief of Staff | DA160157 | 07/22/2016
| Office of the Under Secretary for Natural Resources and Environment | Special Advisor | DA160159 | 07/26/2016
Department of Commerce | Office of the Under Secretary | Deputy Director, Office of Public Affairs | DC160171 | 07/06/2016
|  | Director of Congressional and Public Affairs | DC160179 | 07/20/2016
| Economics and Statistics Administration | Senior Advisor | DC160166 | 07/07/2016
| Bureau of Industry and Security | Special Assistant | DC160176 | 07/12/2016
| Office of the Assistant Secretary for Industry and Analysis | Special Assistant | DC160180 | 07/15/2016
| Office of the White House Liaison | Special Advisor | DC160177 | 07/19/2016
| Office of the Chief Financial Officer and Assistant Secretary for Administration | Special Assistant for Administration | DC160181 | 07/21/2016
| Office of the Executive Secretariat | Associate Director Special Advisor | DC160188 DC160192 | 07/27/2016 07/28/2016
| Office of the Deputy Secretary | Special Assistant | DC160189 | 07/27/2016
| Office of Public Affairs | Press Assistant | DC160197 | 07/28/2016
Department of Defense | Office of the Under Secretary of Defense (Policy) | Special Assistant for Homeland Defense Integration and Defense Support | DD160155 | 07/06/2016
|  | Special Assistant for Asian and Pacific Security Affairs | DD160161 | 07/18/2016
| Washington Headquarters Services | Defense Fellow (2) | DD160157 DD160158 | 07/12/2016 07/19/2016
Department of the Air Force | Office of the Secretary | Special Assistant and Speechwriter | DF160040 | 07/13/2016
Department of the Army | Office of the Secretary | Special Advisor for Digital Strategy and Engagement | DW160051 | 07/01/2016
|  | Director of Strategic Communications for the Secretary of the Army | DW160053 | 07/08/2016
| Office of the Assistant Secretary Army (Manpower and Reserve Affairs) | Special Advisor (Manpower and Reserve Affairs) | DW160050 | 07/08/2016
| Office of the Assistant Secretary Army (Civil Works) | Special Assistant (Civil Works) (2) | DW160040 DW160041 | 07/12/2016 07/14/2016
| Office of the General Counsel | Special Assistant | DW160046 | 07/19/2016
Department of Education | Office of Planning, Evaluation and Policy Development | Senior Policy Advisor (2) | DB160105 DB160106 | 07/01/2016 07/01/2016
| Office of the Secretary | Special Projects Manager | DB160109 | 07/01/2016
|  | Director of Scheduling and Advance | DB160112 | 07/01/2016
|  | Special Assistant | DB160110 | 07/01/2016
| Office of Career Technical and Adult Education | Policy Analyst | DB160111 | 07/01/2016
| Office of the Deputy Secretary | Engagement Manager | DB160102 | 07/05/2016
| Office of Communications and Outreach | Deputy Press | DB160118 | 07/21/2016
|  | Press Secretary and Strategic Communications Advisor | DB160114 | 07/07/2016
|  | Confidential Assistant | DB160113 | 07/08/2016
| Office of Elementary and Secondary Education | Confidential Assistant | DB160116 | 07/07/2016
| Office of Special Education and Rehabilitative Services | Special Assistant | DB160117 | 07/15/2016
| Office of the Under Secretary | Confidential Assistant | DB160115 | 07/19/2016
| Office of Innovation and Improvement | Senior Policy Advisor | DB160119 | 07/26/2016
|  | Chief of Staff | DB160120 | 07/29/2016
Department of Energy | Office of the Assistant Secretary for Congressional and Intergovernmental Affairs | Senior Advisor for Intergovernmental and External Affairs | DE160141 | 07/07/2016
| Office of the Chief Information Officer | Deputy Chief of Staff | DE160138 | 07/13/2016
| Office of the Assistant Secretary for International Affairs | Senior Advisor | DE160143 | 07/27/2016
Environmental Protection Agency | Office of Public Affairs | Press Secretary | EP160047 | 07/01/2016
|  | Deputy Associate Administrator for Public Affairs | EP160048 | 07/01/2016
| Office of the Administrator | White House Liaison | EP160050 | 07/08/2016
Federal Energy Regulatory Commission | Office of the General Counsel Office of the Chairman | Program Analyst Confidential Assistant | DR160005 DR160006 | 07/1/2016 07/01/2016
Department of Health and Human Services | Office of the Administration for Children and Families | Confidential Assistant Senior Policy Advisor | DH160132 DH160166 | 07/07/2016 07/26/2016
| Office of the Assistant Secretary for Public Affairs | Deputy Press Secretary | DH160160 | 07/08/2016
|  | National Press Secretary for Health Care | DH160157 | 07/12/2016
|  | Communications Director for Human Services | DH160164 | 07/21/2016
Department of Homeland Security | Office of the Chief of Staff | Special Assistant | DM160276 | 07/13/2016
| Office of the Secretary | Confidential Assistant | DM160273 | 07/20/2016
Department of Housing and Urban Development | Office of Public Affairs | Director of Speechwriting Deputy Director of Speechwriting | DU160040 DU160043 | 07/20/2016 07/26/2016
|  | Special Advisor for Digital Strategy | DU160039 | 07/28/2016
Department of the Interior | Bureau of Land Management Office of the Assistant Secretary—Policy, Management and Budget | Advisor Senior Advisor | DI160079 DI160082 | 07/22/2016 07/29/2016
Department of Justice | Office on Violence Against Women | Advisor | DJ160141 | 07/26/2016
Department of Labor | Office of the Solicitor | Counselor | DL160104 | 07/06/2016
| Office of the Secretary | Advisor | DL160103 | 07/20/2016
Office of Management and Budget | Office of Legislative Affairs | Deputy | BO160045 | 07/12/2016
Office of National Drug Control Policy | Office of Legislative Affairs | Senior Legislative and Policy Advisor | QQ160005 | 07/20/2016
Office of the United States Trade Representative | Office of Public and Media Affairs | Deputy Press Secretary and Director of Press Operations | TN160008 | 07/21/2016
Department of State | Bureau of Economic and Business Affairs | Special Assistant | DS160116 | 07/08/2016
| Bureau of Legislative Affairs | Legislative Management Officer | DS160119 | 07/08/2016
| Office of the Global Women's Issues | Senior Advisor Staff Assistant | DS160120 DS160127 | 07/20/2016 07/29/2016
| Office of Global Food Security | Special Assistant | DS160121 | 07/21/2016
| Office of the Chief of Protocol | Protocol Officer (Visits) | DS160126 | 07/27/2016
Department of Transportation | Office of the Assistant Secretary for Transportation Policy | Associate Director for Public Engagement | DT160071 | 07/20/2016
|  | Deputy Director for Public Engagement | DT160072 | 07/20/2016
| Office of the Administrator | Senior Advisor | DT160074 | 07/21/2016
Department of the Treasury | Office of the Assistant Secretary (Public Affairs) | Spokesperson (2) | DY160102 DY160107 | 07/05/2016 07/21/2016
| Office of the Secretary of the Treasury | Director of Scheduling, Advance and Administration | DY160103 | 07/07/2016
|  | Senior Advisor | DY160116 | 07/26/2016
| Office of the Under Secretary for International Affairs | Special Assistant | DY160109 | 07/18/2016
| Office of the Under Secretary for Domestic Finance | Executive Assistant | DY160112 | 07/21/2016
| Office of the Assistant Secretary for Management | Special Assistant | DY160115 | 07/21/2016
| Office of the Assistant Secretary (Economic Policy) | Senior Advisor | DY160108 | 07/27/2016
Department of Veterans Affairs | Office of the Secretary and Deputy | Director, Special Projects, Strategic Partnerships | DV160060 | 07/06/2016
| Office of Intergovernmental Affairs | Special Assistant | DV160065 | 07/22/2016
| Office of Public Affairs | Deputy Press Secretary | DV160066 | 07/22/2016

The following Schedule C appointing authorities were revoked during July 2016.

Agency name | Organization name | Position title | Authorization No. | Vacate date
Department of Agriculture | Office of the Under Secretary for Rural Development | Special Advisor | DA150192 | 07/09/2016
| Office of the Under Secretary for Research, Education, and Economics | Special Assistant | DA160004 | 07/27/2016
| Natural Resources Conservation Service | Senior Advisor | DA130121 | 07/29/2016
| Rural Housing Service | State Director—Kansas | DA130130 | 07/31/2016
Department of Commerce | Office of Public Affairs | Senior Public Affairs Coordinator | DC160008 | 07/08/2016
| Office of the Deputy Secretary | Special Assistant | DC150104 | 07/08/2016
| Office of the Under Secretary | Senior Advisor | DC160148 | 07/17/2016
| Office of the Executive Secretariat | Associate Director | DC150121 | 07/22/2016
| Office of the Chief of Staff | Confidential Assistant | DC150105 | 07/29/2016
Office of the Secretary of Defense | Office of the Assistant Secretary of Defense (International Security Affairs) | Special Assistant to the Deputy Assistant Secretary of Defense for Middle East | DD150126 | 07/09/2016
| Office of the Assistant of Defense (Special Operations/Low Intensity Conflict and Interdependent Capabilities) | Chief of Staff to Deputy Assistant Secretary of Defense for Stability and Humanitarian Affairs | DD150067 | 07/09/2016
| Office of the Assistant Secretary of Defense (Global Strategic Affairs) | Special Assistant to the Deputy Assistant Secretary of Defense for Cyber Policy | DD130028 | 07/10/2016
| Office of the General Counsel | Special Counsel to the General Counsel | DD150044 | 07/23/2016
| Washington Headquarters Services | Defense Fellow | DD150062 | 07/23/2016
| Office of the Assistant Secretary of Defense (Asian and Pacific Security Affairs) | Special Assistant to Assistant Secretary of Defense for Asian and Pacific Security Affairs | DD150120 | 07/24/2016
Department of Education | Office of the Secretary | Director of Scheduling and Advance | DB160037 | 07/01/2016
|  | Special Advisor to the Chief of Staff | DB160038 | 07/09/2016
| Office of Innovation and Improvement | Strategic Advisor | DB160019 | 07/09/2016
| Office of Communication and Outreach | Press Secretary | DB150012 | 07/15/2016
Department of Energy | Office of the Assistant Secretary for Congressional and Intergovernmental Affairs | Legislative Affairs Specialist | DE150034 | 07/15/2016
Environmental Protection Agency | Office of Public Affairs | Deputy Press Secretary | EP150048 | 07/09/2016
Federal Energy Regulatory Commission | Office of the Chairman | Program Analyst | DR150004 | 07/05/2016
General Services Administration | Office of Citizen Services, Innovative Technologies and 18F | Program Director, Presidential Innovation Fellows | GS140040 | 07/05/2016
| Public Building Service | Special Assistant | GS150008 | 07/05/2016
Department of Health and Human Services | Centers for Medicare and Medicaid Services | Special Assistant | DH160004 | 07/01/2016
| Office of the Assistant Secretary for Public Affairs | Confidential Assistant | DH150173 | 07/09/2016
| Office of Public Affairs | Special Assistant | DH110110 | 07/23/2016
Department of Homeland Security | Office of the Assistant Secretary for Policy | Special Assistant, Office of Policy | DM160248 | 07/01/2016
| Office of the Under Secretary For National Protection and Programs Directorate | Confidential Assistant | DM160243 | 07/01/2016
| Federal Emergency Management Agency | Special Assistant | DM150263 | 07/29/2016
| Office of the Assistant Secretary for Public Affairs | Confidential Assistant to the Assistant Secretary for Public Affairs | DM150199 | 07/29/2016
Department of Housing and Urban Development | Office of Public Affairs | Deputy Assistant Secretary for Public Affairs | DU150072 | 07/01/2016
| Office of Policy Development and Research | Financial Analyst For Housing Finance | DU140027 | 07/15/2016
Department of the Interior | United States Geological Survey | Confidential Assistant | DI140050 | 07/09/2016
Department of Justice | Office of Public Affairs | Public Affairs Specialist | DJ150116 | 07/16/2016
National Endowment for the Arts | Office of the Chairman | Director of Congressional Affairs | NA140003 | 07/07/2016
National Endowment for the Humanities | Office of the Chairman | White House Liaison and Chairman's Strategic Scheduler | NH150004 | 07/16/2016
Securities and Exchange Commission | Office of the Chairman | Confidential Assistant | SE110005 | 07/24/2016
Department of State | Bureau of Economic and Business Affairs | Special Assistant | DS150077 | 07/09/2016
|  | Staff Assistant | DS120122 | 07/09/2016
Department of Transportation | Office of the Assistant Secretary for Governmental Affairs | Director of State and Local Governmental Affairs | DT150037 | 07/15/2016
|  | Director of Governmental Affairs, Budget and Programs | DT160018 | 07/23/2016
| Office of the Assistant Secretary for Transportation Policy | Associate Director for Public Engagement | DT150045 | 07/23/2016
Department of the Treasury | Office of the Secretary of the Treasury | Special Assistant | DY140116 | 07/01/2016
| Office of the Assistant Secretary (Public Affairs) | Spokesperson (2) | DY150111 DY140113 | 07/02/2016 07/09/2016
| Office of the Secretary of the Treasury | Director of Scheduling, Advance and Administration | DY150103 | 07/09/2016
| Office of the Under Secretary for Terrorism and Financial Intelligence | Senior Advisor | DY140012 | 07/09/2016
| Office of the Under Secretary for Domestic Finance | Senior Advisor | DY140016 | 07/16/2016
| United States Mint | Senior Advisor | DY160036 | 07/23/2016
United States International Trade Commission | Office of Commissioner Pinkert | Staff Assistant (Legal) | TC070012 | 07/20/2016

Authority: 5 U.S.C. 3301 and 3302; E.O. 10577, 3 CFR, 1954-1958 Comp., p. 218. U.S. Office of Personnel Management.

Beth F. Cobert,
Acting Director.

[FR Doc. 2017-00576 Filed 1-11-17; 8:45 am]

BILLING CODE 6325-39-P